DEPARTMENT OF COMMERCE

Census Bureau

Agency Information Collection Activities; Submission for OMB Review; Comment Request

The Department of Commerce will submit to the Office of Management and Budget (OMB) for clearance the following proposal for collection of information under the provisions of the Paperwork Reduction Act.

Agency: U.S. Census Bureau.

Title: Survey of State Government Research and Development.

OMB Control Number: 0607-0933.

Form Number(s): Survey Frame Review Module; SRD-1 (State Agency Form).

Type of Request: Revision of a currently approved collection.

Number of Respondents: State Governors—52, State Coordinators—52, Department/Agency respondents—700.

Average Hours per Response: State Governors—5 minutes, State Coordinators—1 hour, Department/Agency respondents—3 hours (previously 2 hours).

Burden Hours: 2,156. (The burden requested is higher than the figure included in the presubmission notice because we only determined the amount of burden increase for Agency respondents after cognitive testing was done.)

Needs and Uses: The Census Bureau is requesting clearance to conduct the Survey of State Government Research and Development (SGRD) for the 2020-2022 survey years with the revisions outlined in this document. The Census Bureau conducts this survey on behalf of the National Science Foundation's (NSF) National Center for Science and Engineering Statistics (NCSES). The NSF Act of 1950 includes a statutory charge to “provide a central clearinghouse for the collection, interpretation, and analysis of data on scientific and engineering resources and to provide a source of information for policy formulation by other agencies in the Federal Government.” This mandate was further codified in the America COMPETES Reauthorization Act of 2010 § 505, which requires NSF's National Center for Science & Engineering Statistics to “collect, acquire, analyze, report, and disseminate . . . statistical data on (A) research and development trends . . .” NCSES also provides the official U.S. statistics on R&D to the Organization for Economic Cooperation and Development (OECD). OECD measures R&D through R&D personnel data and R&D expenditures. Under the aegis of this legislative mandate, NCSES and its predecessors have sponsored surveys of research and development (R&D) since 1953, including the SGRD since 2006. This survey has helped to expand the scope of R&D collections to include state governments, where previously there had been no regularly established collection efforts, and thus a gap in the national portfolio of R&D statistics.

NCSES sponsors surveys of R&D activities of Federal agencies, higher education institutions, and private industries. The results of these surveys provide a consistent information base for both federal and state government officials, industry professionals, and researchers to use in formulating public policy and planning in science and technology. These surveys allow for the analysis of current and historical trends of R&D in the U.S. and in international comparisons of R&D with other countries. The data collected from the SGRD fills a void that previously existed for collection of R&D activities. Although NCSES conducted periodic data collections of state government R&D in 1995, 1988 and 1987, more frequent collection was necessary to account for the changing dynamic of state governments' role in performing and funding R&D and their role as fiduciary intermediaries of federal funds for R&D. The survey is a census of state government departments, agencies, commissions, public authorities, and other dependent entities as defined by the Census Bureau's Census of Governments program, that performed or funded R&D activities in a given fiscal year.

The Census Bureau, serving as collection agent, employs a methodology similar to the one used to collect information from state and local governments on other established censuses and surveys. This methodology involves identifying a central coordinator in each state who will assist Census Bureau staff in identifying appropriate state agencies to be surveyed. Since not all state agencies have the budget authority or operational capacity to perform or fund R&D, NCSES and Census Bureau staffs have identified those agencies most likely to perform or fund R&D based on state session laws, authorizing legislation, budget authority, previous R&D activities, and reports issued by state government agencies. The state coordinators, based on their knowledge of the state government's own activities and priorities, are asked to confirm which of the selected agencies identified should be sent the survey for a given fiscal year or to add additional agencies to the survey frame. These state coordinators also verify the final responses at the end of the data collection cycle and may assist with nonresponse follow-up with individual state agencies. The collection approach using a central state coordinator is used successfully at the Census Bureau in surveys of local school districts, as well as the annual surveys of state and local government finance.

The FY 2020 survey will include the same content that was collected during the FYs 2016-2019 survey cycles along with two new questions on R&D personnel at state agencies. The new questions are Questions 10 and 11 on the survey form.

Cognitive testing of the new questions was conducted by the NCSES and a report will be available for OMB upon their request.

Adding these new questions to the SGRD will improve measures of the national R&D workforce. The addition of these question will help the NCSES fulfil its mandate to provide statistics on research and development for the benefit of U.S. policy makers and for international comparisons of R&D competitiveness.

Final survey results produced by NCSES contain state and national estimates and are useful to a variety of data users interested in R&D performance, including: The National Science Board; the OMB; the Office of Science and Technology Policy (OSTP) and other science policy makers; institutional researchers; and private organizations; and many state governments.

Legislators, policy officials, and researchers rely on statistics to make informed decisions about R&D investment at the Federal, state, and local level. These statistics are derived from the existing NCSES sponsored surveys of Federal agencies, higher education institutions, and private industry. The total picture of R&D expenditures, however, had been incomplete due to the lack of data from state governments prior to this implementation of the SGRD in 2006, which now fills that void.

State government officials and policy makers garner the most benefit from the results of this survey. Governors and legislatures need a reliable, comprehensive source of data to help in evaluating how best to attract the high-tech R&D industries to their state. Officials are able to evaluate their investment in R&D based on comparisons with other states. These comparisons include the sources of funding, the type of R&D being conducted, and the type of R&D performer.

State governments serve a unique role within the national portfolio of R&D. Not only are they both performers and funders of R&D like other sectors such as the Federal Government, higher education, or industry, but they also serve as fiduciary intermediaries between the Federal Government and other R&D performers while also providing state specific funds for R&D. The information collected from the SGRD provides data users with perspective on this complex flow of funds. Survey results are used at the Federal level to assess and direct investment in technology and economic issues. Congressional committees and the Congressional Research Service use results of the R&D surveys. The BEA uses these data to estimate the contribution of state agency-funded R&D to the overall impact of treating R&D as an investment in BEA's statistics of gross domestic product by state-area.

NSF also uses data from this survey in various publications produced about the state of R&D in the U.S. The Science and Engineering Indicators, for example, is a biennial report mandated by Congress and describes quantitatively the condition of the country's R&D efforts, and includes data from the SGRD. Survey results are also included in the National Patterns of Research and Development report's tabulations.

The availability of state R&D survey results are posted to NSF's web page allowing for public access from a variety of other data users as well. Media, university researchers, nonprofit organizations, and foreign government officials are also consumers of state R&D statistics. All users are able to utilize this information in an attempt to better understand the Nation's R&D resources.

Affected Public: State, local or tribal governments.

Frequency: Annually.

Respondent's Obligation: Voluntary.

Legal Authority: Title 13 U.S.C., Section 8(b); Title 42 U.S.C., Sections 1861-76 (National Science Foundation Act of 1950, as amended).

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0933.

Sheleen Dumas,
Department PRA Clearance Officer, Office of the Chief Information Officer, Commerce Department.

[FR Doc. 2020-08656 Filed 4-22-20; 8:45 am]

BILLING CODE 3510-07-P